DEPARTMENT OF LABOR

Employment and Training Administration

[TA-W-53,977]

Crown Risdon USA, Inc., Risdon-AMS, Danbury, CT; Notice of Termination of Investigation

Pursuant to section 221 of the Trade Act of 1974, as amended, an investigation was initiated on January 12, 2004, in response to a petition filed by the company on behalf of workers at Crown Risdon USA, Inc., Risdon-AMS, Danbury, Connecticut.

The petitioner has requested that the petition be withdrawn. Consequently, further investigation in this case would serve no purpose, and the investigation has been terminated.

Signed at Washington, DC, this 3rd day of February, 2004.
Elliott S. Kushner,
Certifying Officer, Division of Trade Adjustment Assistance.

[FR Doc. 04-4971 Filed 3-4-04; 8:45 am]

BILLING CODE 4510-30-P